DEPARTMENT OF HEALTH AND HUMAN SERVICES

National Institutes of Health

Proposed Collection; 60-Day Comment Request: Community Evaluation of the National Diabetes Education Program's Diabetes HealthSense Web site

Summary: In compliance with the requirement of Section 3506(c)(2)(A) of the Paperwork Reduction Act of 1995, for opportunity for public comment on proposed data collections projects, the National Institute of Diabetes and Digestive and Kidney Diseases (NIDDK), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and For Further Information: To obtain a copy of the data collection plans and instruments, submit comments in writing, or request more information on the proposed project, contact Joanne M. Gallivan, MS, RD, Director, National Diabetes Education Program, OCPL, NIDDK, 31 Center Drive, Room 9A06, Bethesda, MD, 20892 or call non toll-free number 301-496-6110 or Email your request including your address to joanne_gallivan@nih.gov. Formal requests for additional plans and instruments must be requested in writing.

Comment Due Date: Comments regarding this information collection are best assured of having their full effect if received within 60 days of the date of this publication.

Proposed Collection: Community Evaluation of the National Diabetes Education Program's Diabetes HealthSense Web site. 0925-NEW, National Institute of Diabetes and Digestive and Kidney Disease (NIDDK), National Institutes of Health (NIH).

Need and Use of Information Collection: The National Diabetes Education Program (NDEP) is a partnership of the National Institutes of Health (NIH) and the Centers for Disease Control and Prevention (CDC) and more than 200 public and private organizations. The long-term goal of the NDEP is to reduce the burden of diabetes and pre-diabetes in the United States, and its territories, by facilitating the adoption of proven strategies to prevent or delay the onset of diabetes and its complications. The NDEP objectives are to: (1) Increase awareness and knowledge of the seriousness of diabetes, its risk factors, and effective strategies for preventing type 2 diabetes and complications associated with diabetes; (2) Increase the number of people who live well with diabetes and effectively manage their disease to prevent or delay complications and improve quality of life; (3) Decrease the number of Americans with undiagnosed diabetes; (4) Among people at risk for type 2 diabetes, increase the number who make and sustain effective lifestyle changes to prevent diabetes; (5) Facilitate efforts to improve diabetes-related health care and education, as well as systems for delivering care; (6) Reduce health disparities in populations disproportionately burdened by diabetes; and (7) Facilitate the incorporation of evidence-based research findings into health care practices.

One product that NDEP has developed to address many of these objectives is Diabetes HealthSense, an online compendium of psychosocial and behavioral resources to support lifestyle changes. This study will be a multi-component 3-year evaluation of Diabetes HealthSense. The required forms will support the following evaluation tasks: (1) Assessing community educators' experience and satisfaction with NDEP resources such as the Diabetes HealthSense Web site; (2) Assess the extent to which, through participation in Diabetes HealthSense educational sessions, community educators can increase their knowledge and ability to promote and use NDEP resources; and (3) Assess the extent to which the Web site, with guided exploration, can facilitate changes in lifestyle to help prevent or manage diabetes. The data collected from this evaluation will provide NDEP with information about how community educators use NDEP-created resources in their communities and whether the Diabetes HealthSense resource has its intended effect on participants. Such data will help inform NDEP's future decisions about the Diabetes HealthSense Web site, including whether to make changes to Diabetes HealthSense, and whether to invest additional resources to support, promote or expand this resource.

OMB approval is requested for three years. There are no costs to respondents other than their time. The total estimated annualized burden hours are 328.

Estimated Annualized Burden Hours
Form name | Type of respondent | Estimated number of respondents | Estimated number of responses per respondent | Average time per response (in hours) | Estimated total annual burden hours
Participant Pretest | Adult intervention participants | 225 | 1 | 20/60 | 75
Participant Posttest | Adult intervention participants | 150 | 1 | 20/60 | 50
Participant Exit Satisfaction Survey | Adult intervention participants | 225 | 1 | 10/60 | 38
Participant Follow-up Interview | Adult intervention participants | 15 | 1 | 1 | 15
Participant Pretest | Adult comparison group participants | 250 | 1 | 20/60 | 83
Participant Posttest | Adult comparison group participants | 150 | 1 | 20/60 | 50
Community Educator Pre Interview | Community educators | 5 | 1 | 1 | 5
Community Educator Post Interview | Community educators | 5 | 1 | 1 | 5
Intervention Participant Recruitment Guide | Community educators | 5 | 3 | 15/60 | 4
Comparison Participant Recruitment Guide | Community educators | 10 | 1 | 15/60 | 3

Dated: July 18, 2013.
Ruby N. Akomeah,
Project Clearance Liaison, NIDDK, NIH.

[FR Doc. 2013-18820 Filed 8-2-13; 8:45 am]

BILLING CODE 4140-01-P